DEPARTMENT OF HEALTH AND HUMAN SERVICES

Centers for Medicare & Medicaid Services

[Document Identifier: CMS-1728-94 and CMS-10091]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Home Health Agency Cost Report; Use: Providers of services participating in the Medicare program are required under sections 1815(a) and 1861(v)(1)(A) of the Social Security Act (42 U.S.C. 1395g) to submit annual information to achieve settlement of costs for health care services rendered to Medicare beneficiaries. The CMS-1728-94 cost report is needed to determine the amount of reimbursable cost, based upon the cost limits, that is due these providers furnishing medical services to Medicare beneficiaries. Form Number: CMS-1728-94 (OMB#: 0938-0022); Frequency: Reporting: Yearly; Affected Public: Business or other for-profit and Not-for-profit institutions; Number of Respondents: 5069; Total Annual Responses: 5069; Total Annual Hours: 892,144.

2. Type of Information Collection Request: Extension of a currently approved collection; Title of Information Collection: Accepting New Patients Indicator UPIN (Unique Physician Identification Number) Participating Physicians Directory; Use: CMS is expanding the Participating Physician Directory to provide additional information about physicians who participate in Medicare. The new data element “accepting new Medicare patients” will provide beneficiaries and other users with much needed information about the physicians who participate in the Medicare program. It will also provide a service to physicians who are either seeking new Medicare patients or who wish to reduce the burden of responding to callers when they are no longer accepting new Medicare patients. Form Number: CMS-10091 (OMB#: 0938-0905); Frequency: Reporting: Daily, Weekly and Yearly; Affected Public: Business or other for-profit and Not-for-profit institutions; Number of Respondents: 109.800; Total Annual Responses: 10,980; Total Annual Hours: 915.

To obtain copies of the supporting statement and any related forms for the proposed paperwork collections referenced above, access CMS' Web site address at http://www.cms.hhs.gov/PaperworkReductionActof1995, or e-mail your request, including your address, phone number, OMB number, and CMS document identifier, to Paperwork@cms.hhs.gov, or call the Reports Clearance Office on (410) 786-1326.

To be assured consideration, comments and recommendations for the proposed information collections must be received at the address below, no later than 5 p.m. on March 20, 2007.

CMS, Office of Strategic Operations and Regulatory Affairs, Division of Regulations Development—C, Attention: Bonnie L Harkless, Room C4-26-05, 7500 Security Boulevard, Baltimore, Maryland 21244-1850.

Dated: January 10, 2007.
Michelle Shortt,
Director, Regulations Development Group, Office of Strategic Operations and Regulatory Affairs.

[FR Doc. E7-604 Filed 1-18-07; 8:45 am]

BILLING CODE 4120-01-P